DEPARTMENT OF THE INTERIOR

National Park Service

[NPS-WASO-NAGPRA-NPS0036443; PPWOCRADN0-PCU00RP14.R50000]

Notice of Intent To Repatriate Cultural Items: Arizona State Museum, University of Arizona, Tucson, AZ

AGENCY: National Park Service, Interior.

ACTION: Notice.

SUMMARY: In accordance with the Native American Graves Protection and Repatriation Act (NAGPRA), the Arizona State Museum (ASM), University of Arizona, intends to repatriate certain cultural items that meet the definition of unassociated funerary objects and that have a cultural affiliation with the Indian Tribes or Native Hawaiian organizations in this notice. The cultural items were removed from Santa Barbara County, CA.

DATES: Repatriation of the cultural items in this notice may occur on or after September 22, 2023.

ADDRESSES: Cristin Lucas, Repatriation Coordinator, Arizona State Museum, 1013 E University Boulevard, Tucson, AZ 85721-0026, telephone (520) 626-0320, email lucasc@arizona.edu.

SUPPLEMENTARY INFORMATION: This notice is published as part of the National Park Service's administrative responsibilities under NAGPRA. The determinations in this notice are the sole responsibility of the ASM. The National Park Service is not responsible for the determinations in this notice. Additional information on the determinations in this notice, including the results of consultation, can be found in the summary or related records held by the ASM.

Description

On an unknown date in 1925, 70 cultural items were removed from LOMPOC:1:2(GP) in Santa Barbara County, CA. The cultural items were collected by Frank McCoy, owner of the Santa Maria Inn, and were said to have come from a burial. Catalog records indicate that archeologist Harold S. Gladwin acquired the items from McCoy in 1925. Gladwin was a resident of Santa Barbara before founding the Gila Pueblo Archaeology Foundation in Globe, AZ, in the late 1920s. Gladwin lived at the Foundation off and on throughout its active years until he dissolved the institution in the late-1940s. In 1951, most of the Foundation's collections, including the 70 cultural items listed here, were transferred to ASM. The 70 unassociated funerary objects are one projectile point, one biface, 66 ground stone ornaments, one shell ring, and one shark tooth.

On an unknown date prior to 1936, one cultural item was removed from an unknown site north of Santa Barbara, Santa Barbara County, CA. The cultural item was collected by Carl Miller and is noted to have been recovered from “Burial 24.” In 1936, the item was donated to ASM by Mr. and Mrs. Wetmore Hodges in 1936, who presumably had received it from Miller. The one unassociated funerary object is a shell necklace.

In the mid-1920s, three cultural items were removed from a site designated as Santa Barbara:13(GP), a site recorded by the Gila Pueblo Archaeological Foundation. The original documentation of the site recorded its name as “Amolomal” and “Burton Mound,” and described its location as being “at the foot of Chapala St., on the site once occupied by the Potter Hotel.” Harrington (1928) lists Syujtun (also Syuxtun [Gamble 2008]) as the indigenous name for the Burton Mound site, while Rogers (1929) describes Siuhtun, Burton Mound, and Amolomol as separate sites. Recent publications (Gamble 2008; McDaniel Wilcox 2013) use the site number CA-SBA-28 for the mound and recognize it as having been the location of Syuxtun. The original catalog card for these items is undated, but the early catalog number suggests that they were likely collected in the mid-1920s by archeologist Harold S. Gladwin, who founded the Gila Pueblo Archaeology Foundation. In 1951, most of the Foundation's collections, including the three items listed here, were transferred to ASM. The three unassociated funerary objects are one fossil, one crystal, and one shell, all unmodified.

In 1926, one cultural item was removed from a site designated as Santa Barbara:4(GP), a site recorded by the Gila Pueblo Archaeological Foundation. The catalog card describes the site as a village located on Higgins Ranch, southeast of Carpinteria and adjoining the Carpinteria tar-pit, between the Coast Highway and the beach. The item was collected in 1926 by archeologist Harold S. Gladwin, who founded the Gila Pueblo Archaeology Foundation. In 1951, most of the Foundation's collections, including the one item listed here, were transferred to ASM. The one unassociated funerary object is a bifacial tool.

Cultural Affiliation

The cultural items in this notice are connected to one or more identifiable earlier groups, tribes, peoples, or cultures. There is a relationship of shared group identity between the identifiable earlier groups, tribes, peoples, or cultures and one or more Indian Tribes or Native Hawaiian organizations. The following types of information were used to reasonably trace the relationship: anthropological, archeological, geographical, and historical.

Determinations

Pursuant to NAGPRA and its implementing regulations, and after consultation with the appropriate Indian Tribes and Native Hawaiian organizations, the ASM has determined that:

• The 75 cultural items described above are reasonably believed to have been placed with or near individual human remains at the time of death or later as part of the death rite or ceremony and are believed, by a preponderance of the evidence, to have been removed from a specific burial site of a Native American individual.

• There is a relationship of shared group identity that can be reasonably traced between the cultural items and the Santa Ynez Band of Chumash Mission Indians of the Santa Ynez Reservation, California.

Requests for Repatriation

Additional, written requests for repatriation of the cultural items in this notice must be sent to the Responsible Official identified in ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after September 22, 2023. If competing requests for repatriation are received, the ASM must determine the most appropriate requestor prior to repatriation. Requests for joint repatriation of the cultural items are considered a single request and not competing requests. The ASM is responsible for sending a copy of this notice to the Indian Tribe identified in this notice.

Authority: Native American Graves Protection and Repatriation Act, 25 U.S.C. 3003, and the implementing regulations, 43 CFR 10.8, § 10.10, and § 10.14.

Dated: August 16, 2023.
Melanie O'Brien,
Manager, National NAGPRA Program.

[FR Doc. 2023-18141 Filed 8-22-23; 8:45 am]

BILLING CODE 4312-52-P